DEPARTMENT OF STATE

[Public Notice 9032]

60-Day Notice of Proposed Information Collection: Statement Regarding a Lost or Stolen U.S. Passport Book and/or Card

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to April 6, 2015.

ADDRESSES: You may submit comments by any of the following methods:

• Web: Persons with access to the Internet may comment on this notice by going to www.Regulations.gov. You can search for the document by entering “Docket Number: DOS-2015-0009” in the Search field. Then click the “Comment Now” button and complete the comment form.

• Email: PPTFormsOfficer@state.gov.

• Mail: U.S. Department of State, Bureau of Consular Affairs, Passport Services, Office of Legal Affairs and Law Enforcement Liaison, 2201 C Street NW., Washington, DC 20520.

• Fax: (202) 485-6496 (include a cover sheet addressed to “PPT Forms Officer” referencing the DS form number, information collection title, and OMB control number).

• Hand Delivery or Courier: PPT Forms Officer, U.S. Department of State, Bureau of Consular Affairs, Passport Services, Office of Legal Affairs and Law Enforcement Liaison, 2201 C Street NW., Washington, DC 20520.

You must include the DS form number (if applicable), information collection title, and the OMB control number in any correspondence.

FOR FURTHER INFORMATION CONTACT: Direct requests for additional information regarding the collection listed in this notice, including requests for copies of the proposed collection instrument and supporting documents, to U.S. Department of State, Bureau of Consular Affairs, Passport Services, Office of Legal Affairs and Law Enforcement Liaison, 2201 C Street NW., Washington, DC 20520, who may be reached on (202) 485-6373 or at PPTFormsOfficer@state.gov.

SUPPLEMENTARY INFORMATION:

• Title of Information Collection: Statement Regarding a Lost or Stolen U.S. Passport Book and/or Card.

• OMB Control Number: 1405-0014.

• Type of Request: Revision of a Currently Approved Collection.

• Originating Office: Bureau of Consular Affairs, Passport Services, Office of Legal Affairs and Law Enforcement Liaison (CA/PPT/S/L).

• Form Number: DS-64.

• Respondents: Individuals or Households.

• Estimated Number of Respondents: 461,667 respondents per year.

• Estimated Number of Responses: 461,667 responses per year.

• Average Time per Response: 10 minutes.

• Total Estimated Burden Time: 76,945 hours per year.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The Secretary of State is authorized to issue U.S. passports under 22 U.S.C. 211a et seq., 8 U.S.C. 1104, and Executive Order 11295 (August 5, 1966). Our regulations in the Code of Federal Regulations provide that individuals whose valid U.S. passports were lost or stolen must make a report of the lost or stolen passport to the Department of State before they receive a new passport so that the lost or stolen passport can be invalidated (22 CFR parts 50 and 51). The Enhanced Border Security and Visa Entry Reform Act of 2002 (8 U.S.C. 1737) requires the Department of State to collect accurate information on lost or stolen U.S. passports and to enter that information into a data system. Form DS-64 collects information identifying the person who held the lost or stolen passport and describing the circumstances under which the passport was lost or stolen. As required by the cited authorities, we use the information collected to accurately identify the passport that must be invalidated and to make a record of the circumstances surrounding the lost or stolen passport. False statements made knowingly or willfully on passport forms, in affidavits or other supporting documents are punishable by fine and/or imprisonment under U.S. law. (18 U.S.C. 1001, 1542, 1621).

Methodology: This form is used in conjunction with a DS-11, “Application for a U.S. Passport”, or submitted separately to report loss or theft of a U.S. passport. Passport Services collects the information when a U.S. citizen or non-citizen national applies for a new U.S. passport and has been issued a previous, still valid U.S. passport that has been lost or stolen, or when a passport holder independently reports it lost or stolen. Passport applicants can either download the form from the Internet or obtain one at any Passport Agency or Acceptance Facility.

Dated: January 27, 2015.
Brenda S. Sprague,
Deputy Assistant Secretary for Passport Services, Bureau of Consular Affairs, Department of State.

[FR Doc. 2015-02338 Filed 2-4-15; 8:45 am]

BILLING CODE 4710-06-P